SUSQUEHANNA RIVER BASIN COMMISSION

Commission Meeting

AGENCY: Susquehanna River Basin Commission.

ACTION: Notice.

SUMMARY: The Susquehanna River Basin Commission will hold its regular business meeting on March 15, 2012, in Harrisburg, Pennsylvania. Details concerning the matters to be addressed at the business meeting are contained in the Supplementary Information section of this notice.

DATES: March 15, 2012, at 8:30 a.m.

ADDRESSES: North Office Building, Hearing Room 1 (Ground Level), North Street (at Commonwealth Avenue), Harrisburg, Pa. 17120

FOR FURTHER INFORMATION CONTACT: Richard A. Cairo, General Counsel, telephone: (717) 238-0423, ext. 306; fax: (717) 238-2436; email: rcairo@srbc.net or Stephanie L. Richardson, Secretary to the Commission, telephone: (717) 238-0423, ext. 304; fax: (717) 238-2436; email: srichardson@srbc.net.

SUPPLEMENTARY INFORMATION: The business meeting will include actions on the following items: (1) A resolution concerning the use of lesser quality water; (2) approval for Susquehanna River Flow Management project expenditures; (3) a revision of the by-laws relating to the Commission's Investment Policy Statement; (4) a request for a partial fee waiver; (5) ratification/approval of grants/contracts (6) revision of FY-2013 Budget; (7) release for public review and comment of a Low Flow Protection Policy; and (8) Regulatory Program projects. Projects listed for Commission action are those that were the subject of a public hearing conducted by the Commission on February 16, 2012; notice of which was published in 77 FR 3321, January 23, 2012. Please note, in such notice, Project No. 34 under Supplementary Information, Additional Projects, identifies the project sponsor and facility as Water Treatment Solutions, LLC (South Mountain Lake) as being located in Wood Township, Lycoming County, Pa. The correct location is Woodward Township, Lycoming County, Pa.

Opportunity to Appear and Comment:

Interested parties are invited to attend the business meeting and encouraged to review the Commission's Public Meeting Rules of Conduct, which are posted on the Commission's Web site, www.srbc.net. As identified in the public hearing notice referenced above, written comments on the Regulatory Program projects that were the subject of the public hearing, and are listed for action at the business meeting, were due on or before February 27, 2012. Written comments pertaining to any other matters listed for action at the business meeting may be mailed to the Susquehanna River Basin Commission, 1721 North Front Street, Harrisburg, Pennsylvania 17102-2391, or submitted electronically to Richard A. Cairo, General Counsel, email: rcairo@srbc.net or Stephanie L. Richardson, Secretary to the Commission, email: srichardson@srbc.net. Any such comments mailed or electronically submitted must be received by the Commission on or before March 9, 2012, to be considered.

Authority: Public Law 91-575, 84 Stat. 1509 et seq., 18 CFR parts 806, 807, and 808.

Dated: February 14, 2012.
Thomas W. Beauduy,
Deputy Executive Director.

[FR Doc. 2012-4027 Filed 2-21-12; 8:45 am]

BILLING CODE 7040-01-P